ENVIRONMENTAL PROTECTION AGENCY

[EPA-HQ-OPP-2006-0936; FRL-8150-8]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before November 23, 2007.

ADDRESSES: Submit your comments, identified by docket identification (ID) number and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 7E7228 | EPA-HQ-OPP-2007-0627
PP 7E7234 | EPA-HQ-OPP-2007-0940
PP 7E7238 | EPA-HQ-OPP-2007-0189
PP 7E7253 | EPA-HQ-OPP-2007-0910
PP 7E7255 | EPA-HQ-OPP-2007-0300
PP 7E7257 | EPA-HQ-OPP-2007-0945
PP 7E7234 | EPA-HQ-OPP-2007-0940
PP 7E7245 | EPA-HQ-OPP-2007-0906

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerances

1. PP 7E7228. (EPA-HQ-OPP-2007-0627). Interregional Research Project Number 4 (IR-4), 500 College Road East, Suite 201 W., Princeton, NJ 08540, proposes to establish a tolerance for residues of the plant growth regulator forchlorfenuron (KT-30) in or on food commodities bushberry subgroup 13B (aronia berry; blueberry, highbush; blueberry, lowbush; currant, buffalo; chilean guava; currant, black and currant, red; barberry, European, elderberry; gooseberry; cranberry, highbush; honeysuckle, edible; huckleberry; jostaberry; juneberry; currant; salal; and buckthorn, sea) at 0.01 parts per million (ppm). Two analytical methods, both based on high performance liquid chromatography (HPLC) procedures have been developed. The first method used a visible ultraviolet (UV) detector, while the second method used a mass spectrophotometer (MS) detector. Since the MS detector is capable of both qualitative as well as quantitative measurement, it is the preferred method. The lowest level of quantification (LOQ) in blueberries was 0.01 ppm. Contact: Shaja R. Brothers, telephone number: (703) 308-3194; e-mail address: brothers.shaja@epa.gov.

2. PP 7E7234. (EPA-HQ-OPP-2007-0940). Interregional Research Project Number 4 (IR- 4), 500 College Road East, Suite 201 W., Princeton, NJ 08540, proposes to establish a tolerance for residues of the fungicide fludioxonil 4-(2, 2-difluoro-1,3-benzodioxol-4-yl)-1H-pyrrole-3-carbonitrile in or on food commodities tomato at 0.4 ppm; tomatillo at 0.4 ppm; tomato, paste at 1.0 ppm; avocado at 0.45 ppm; black sapote at 0.45 ppm; canistel at 0.45 ppm; mamey sapote at 0.45 ppm; mango at 0.45 ppm; papaya at 0.45 ppm; sapodilla at 0.45 ppm; star apple at 0.45 ppm; herb, subgroup 19A, fresh at 13 ppm; herb, subgroup 19A, dried at 55 ppm; leaves of root and tuber vegetables at 40 ppm; root vegetables, except sugar beet subgroup at 0.5 ppm; lemon at 0.25 ppm; lime at 0.25 ppm; cucurbits at 0.6 ppm; and tuberous and corm vegetables, except potato subgroup at 4.0 ppm. Syngenta has developed and validated analytical methodology for enforcement purposes. This method (Syngenta Crop Protection Method AG-597B) has passed an Agency petition method validation for several commodities, and is currently the enforcement method for fludioxonil. This method has also been forwarded to the Food and Drug Administration for inclusion into PAM II. An extensive database of method validation data using this method on various crop commodities is available. Contact: Sidney Jackson, telephone number: (703) 305-7610; e-mail address: jackson.sidney@epa.gov.

3. PP 7E7238. (EPA-HQ-OPP-2007-0189). Interregional Research Project Number 4 (IR-4), 500 College Road East, Suite 201 W., Princeton, NJ 08540, proposes to establish a tolerance for the combined residues of the herbicide propyzamide (pronamide) and its metabolite containing the 3,5-dichlorobenzoyl moiety calculated as 3,5-dichloro-N-(1,1-dimethyl-2-propynyl) benzamide in or on food commodities bearberry at 1.0 ppm; bilberry at 1.0 ppm; blueberry, lowbush at 1.0 ppm; cloudberry at 1.0 ppm; cranberry at 1.0 ppm; lingonberry at 1.0 ppm; muntries at 1.0 ppm; and partridgeberry at 1.0 ppm. Adequate enforcement methodology (gas chromatography using electron capture detection) is available to enforce the tolerance expression, this method is published in PAM II, as method I. Contact: Sidney Jackson, telephone number: (703) 305-7610; e-mail address: jackson.sidney@epa.gov.

4. PP 7E7253. (EPA-HQ-OPP-2007-0910). Interregional Research Project Number 4 (IR-4), 500 College Road East, Suite 201 W., Princeton, NJ 08540, proposes to establish a tolerance for residues of the insecticide buprofezin in or on food commodities vegetable, fruiting, group 8; and okra at 1.8 ppm. The proposed analytical method involves extraction, partition, clean-up and detection of residues by gas chromatography using nitrogen phosphorous detection. Contact: Susan Stanton, telephone number: (703) 305-5218; e-mail address: stanton.susan@epa.gov.

5. PP 7E7255. (EPA-HQ-OPP-2007-0300). Interregional Research Project Number 4 (IR-4), 500 College Road East, Suite 201 W., Princeton, NJ 08540, proposes to establish a tolerance for residues of the insecticide Z-cypermethrin (S-cyano(3-phenoxyphenyl) methyl (±) cis-trans 3-(2,2-dichloroethenyl)-2,2 dimethylcyclopropanecarboxylate and its inactive R-isomers in or on food commodities borage, seed at 0.2 ppm; castor oil plant, seed at 0.2 ppm; Chinese tallowtree, seed at 0.2 ppm; crambe, seed at 0.2 ppm; cuphea, seed at 0.2 ppm; echium, seed at 0.2 ppm; euphorbia, seed at 0.2 ppm; evening primrose, seed at 0.2 ppm; flax, seed at 0.2 ppm; gold of pleasure, seed at 0.2 ppm; hare’s ear mustard, seed at 0.2 ppm; jojoba, seed at 0.2 ppm; lesquerella, seed at 0.2 ppm; lunara, seed at 0.2 ppm; meadowfoam, seed at 0.2 ppm; milkweed, seed at 0.2 ppm; mustard, seed at 0.2 ppm; niger seed, seed at 0.2 ppm; oil radish, seed at 0.2 ppm; poppy, seed at 0.2 ppm; rose hip, seed at 0.2 ppm; sesame, seed at 0.2 ppm; stokes aster, seed at 0.2 ppm; sweet rocket, seed at 0.2 ppm; tallowwood, seed at 0.2 ppm; tea oil plant, seed at 0.2 ppm; and vernonia, seed at 0.2 ppm. There is a practical analytical method for detecting and measuring levels of cypermethrin in or on food with a limit of detection that allows monitoring of food with residues at or above the levels set in these tolerances (gas chromatography with electron capture detection (GC/ECD)). Contact: Sidney Jackson, telephone number: (703) 305-7610; e-mail address: jackson.sidney@epa.gov.

6. PP 7E7257. (EPA-HQ-OPP-2007-0945). Interregional Research Project Number 4 (IR-4), 500 College Road East, Suite 201 W., Princeton, NJ 08540, proposes to establish a tolerance for residues of the herbicide MCPB [4-(2-methyl-4-chlorophenoxy) butyric acid] in or on food commodity mint tops (leaves and stems) at 0.25 ppm. MCPB and MCPA residues were analyzed using a gas chromatographic/mass spectrometric (GC/MS) method. For MCPB in or on mint tops, the LOD for the method was calculated to be 0.004 ppm and the LOQ was calculated to be 0.012 ppm. For MCPA in or on mint tops, the LOD for the method was calculated to be 0.003 ppm and the LOQ was calculated to be 0.009 ppm. The lowest level of method validation (LL/MV) for both MCPB and MCPA in or on mint tops was 0.05 ppm. For MCPB in or on mint oil, the LOD for the method was calculated to be 0.015 ppm and the LOQ was calculated to be 0.044 ppm; and for MCPA in or on mint oil, the LOD for the method was calculated to be 0.013 ppm and the LOQ was calculated to be 0.039 ppm. The lowest level of method validation for both MCPB and MCPA in or on mint oil was 0.05 ppm. Contact: Susan Stanton, telephone number: (703) 305-5218; e-mail address: stanton.susan@epa.gov.

Amendment to Existing Tolerances

1. PP 7E7234. (EPA-HQ-OPP-2007-0940). Upon approval of the aforementioned new tolerances above in No. 2, the Interregional Research Project Number 4 (IR-4), 500 College Road East, Suite 201 W., Princeton, NJ 08540, proposes to amend the tolerances in 40 CFR 180.516 by removing the established tolerances for residues of the fungicide fludioxonil 4-(2, 2-difluoro-1,3-benzodioxol-4-yl)-1H-pyrrole-3-carbonitrile in or on the food commodities herb, subgroup 19A, fresh at 10 ppm; herb, subgroup 19A, dried at 65 ppm; carrot at 0.75 ppm; and turnip, greens at 10 ppm. Contact: Sidney Jackson, telephone number: (703) 305-7610; e-mail address: jackson.sidney@epa.gov.

2. PP 7E7245. (EPA-HQ-OPP-2007-0906). Interregional Research Project Number 4 (IR-4), 500 College Road East, Suite 201 W., Princeton, NJ 08540, proposes to amend 40 CFR 180.582 to increase the tolerance for the combined residues of the fungicide pyraclostrobin, carbamic acid, [2-[[[1-(4-chlorophenyl)-1H-pyrazol-3-yl]oxy] methyl]phenyl]methoxy-, methyl ester and its metabolite methyl-N-[[[1-(4-chlorophenyl) pyrazol-3-yl]oxy]o-tolyl]carbamate (BF-500-3), expressed as parent compound in or on the food commodities barley, grain at 1.3 ppm and barley, straw at 9.0 ppm. In plants, the method of analysis is aqueous organic solvent extraction, column clean-up and quantitation by liquid chromatography/mass spectrometry/mass spectrometry (LC/MS/MS). In animals, the method of analysis involves base hydrolysis, organic extraction, column clean-up and quantitation by LC/MS/MS or derivatization (methylation) followed by quantitation by gas chromatography/mass spectrometry (GC/MS). Contact: Shaja R. Brothers, telephone number: (703) 308-3194; e-mail address: brothers.shaja@epa.gov.

List of Subjects

Environmental protection, Agricultural commodities, Feed additives, Food additives, Pesticides and pests, Reporting and recordkeeping requirements.

Dated: October 10, 2007.
Donald R. Stubbs,
Acting Director, Registration Division, Office of Pesticide Programs.

[FR Doc. E7-20599 Filed 10-23-07; 8:45 am]

BILLING CODE 6560-50-S